DEPARTMENT OF VETERANS AFFAIRS

Advisory Committee on Former Prisoners of War, Notice of Meeting

The Department of Veterans Affairs (VA) gives notice under the Federal Advisory Committee Act that the Advisory Committee on Former Prisoners of War (FPOW) will meet November 29-30, 2017, from 9:00 a.m.-4:30 p.m. EST at the Atlanta Regional Benefits Office, 1700 Clairmont Road, Decatur, GA 30033 and December 1, 2017, from 9:00 a.m. to 12:00 p.m. EST at the Atlanta Marriot Marquis, 265 Peachtree Center Avenue, Atlanta, GA 30303. Sessions are open to the public, except when the Committee is conducting a tour of VA facilities, participating in off-site events, and participating in workgroup sessions. Tours of VA facilities are closed, to protect from disclosure Veterans' information which would constitute a clearly unwarranted invasion of personal privacy.

The purpose of the Committee is to advise the Secretary of Veterans Affairs on the administration of benefits under Title 38 U.S.C., for Veterans who are FPOWs, and to make recommendations on the needs of such Veterans for compensation, health care, and rehabilitation.

On Wednesday, November 29, the Committee will convene an open session to recognize and hear briefings from Veterans Health Administration (VHA) and external stakeholders from 9:00 a.m. to 4:30 p.m.

On Thursday, November 30, the Committee will assemble an open session for discussion and briefings from Veterans Benefits Administration (VBA) and Veterans Health Administration (VHA) officials from 9:00 a.m. to 4:00 p.m. From 4:00 p.m. to 5:00 p.m., the Committee will convene a closed session in order to protect patient privacy as the committee tours the Atlanta Regional Benefits Office. On Friday, December 1, the Committee will conduct an open session from 9:00 a.m. to 11:00 a.m. to discuss committee recommendations. From 11:00 a.m. to 12:00 p.m., the Committee will convene a closed session for discussion of committee issues. At 12:00 p.m., the committee meeting will formally adjourn.

Public participation will commence as follows:

Date | Time | Open session
November 29, 2017 | 9:00 a.m.-4:30 p.m | Yes.
November 30, 2017 | 9:00 a.m.-4:00 p.m | Yes.
| 4:00 p.m.-5:00 p.m | No.*
December 1, 2017 | 9:00 a.m.-11:00 a.m | Yes.
| 11:00 a.m.-12:00p.m | No.*
* Public access will be restricted to protect patient privacy.

FPOWs who wish to speak at the public forum are invited to submit a 1-2 page commentary for inclusion in official meeting records. Any member of the public may also submit a 1-2 page commentary for the Committee's review.

Any member of the public wishing to attend the meeting or seeking additional information should contact Ms. Leslie N. Williams, Designated Federal Officer, Advisory Committee on Former Prisoners of War at Leslie.Williams1@va.gov or via phone at (202) 530-9219.

Dated: November 7, 2017.
Jelessa M. Burney,
Federal Advisory Committee Management Officer.

[FR Doc. 2017-24557 Filed 11-13-17; 8:45 am]

BILLING CODE P